DEPARTMENT OF TRANSPORTATION

Federal Aviation Administration

14 CFR Part 25

[Docket No. FAA-2023-2134; Special Conditions No. 25-845-SC]

Special Conditions: H4 Aerospace (UK) Ltd., Boeing Model 757-200 Airplane, Non-Rechargeable Lithium Battery and Battery System Installations; Correction

AGENCY: Federal Aviation Administration (FAA), DOT.

ACTION: Final special conditions; request for comments; correction.

SUMMARY: The FAA published a document in the Federal Register on May 15, 2024, issuing special conditions for non-rechargeable lithium batteries and battery systems on Boeing Model 757-200 airplanes, as modified by H4 Aerospace (UK) Ltd (H4). The document contained an incorrect reference to the Model 757-200's type certificate number in the Applicability section of the special conditions.

DATES: This correction is effective on June 18, 2024.

FOR FURTHER INFORMATION CONTACT: Nazih Khaouly, Electrical Systems Unit, AIR-626A, Technical Policy Branch, Policy and Standards Division, Aircraft Certification Service, Federal Aviation Administration, 2200 South 216th Street, Des Moines, Washington 98198; telephone (206) 231-3160; email Nazih.Khaouly@faa.gov.

SUPPLEMENTARY INFORMATION:

Background

On May 7, 2024, the FAA issued final special conditions for the Boeing Model 757-200 airplanes, as modified by H4, which published in the Federal Register on May 15, 2024 (89 FR 42341). The FAA inevertantly published these special conditions referencing an incorrect type certificate number in the applicability section.

Correction

In the Federal Register of May 15, 2024 (89 FR 42341), make the following correction:

On page 42343, in the first column, in the Applicability section, line 7, correct “FAA STC ST00102IB” to read “A2NM”.

Issued in in Kansas City, Missouri, on June 13, 2024.
Patrick R. Mullen,
Manager, Technical Policy Branch, Policy and Standards Division, Aircraft Certification Service.

[FR Doc. 2024-13382 Filed 6-17-24; 8:45 am]

BILLING CODE 4910-13-P